DEPARTMENT OF TRANSPORTATION

Office of the Secretary

Aviation Proceedings, Agreements Filed the Week Ending September 7, 2007

The following Agreements were filed with the Department of Transportation under Sections 412 and 414 of the Federal Aviation Act, as amended (49 U.S.C. 1383 and 1384) and procedures governing proceedings to enforce these provisions. Answers may be filed within 21 days after the filing of the application.

Docket Number: OST-2007-29165.

Date Filed: September 4, 2007.

Parties: Members of the International Air Transport Association.

Subject: Mail Vote Number A141, Expansion of Resolution 818g to Namibia, Botswana, Lesotho and Switzerland.

Intended effective date: 1 October 2007.

Docket Number: OST-2007-29207.

Date Filed: September 7, 2007.

Parties: Members of the International Air Transport Association.

Subject: TC2 Europe-Middle East. Expedited Resolution 002as.

Intended effective date: 15 October 2007.

Renee V. Wright,
Program Manager, Docket Operations, Federal Register Liaison.

[FR Doc. E7-18677 Filed 9-20-07; 8:45 am]

BILLING CODE 4910-9X-P